DEPARTMENT OF ENERGY

Federal Energy Regulatory Commission

[Project No. 14227-003]

The Nevada Hydro Company, Inc. ; Notice of Tribal Consultation Meeting

a. Date of Meeting: Wednesday, March 20, 2019.

b. FERC Contact: Jim Fargo, (202) 502-6095 or james.fargo@ferc.gov.

c. Purpose of Meeting: Commission staff will meet with the Pechanga Band of Luiseno Mission Indians (Pechanga Tribe) at 888 First Street NE, Washington DC to discuss Nevada Hydro's Corporation's application to license the proposed Lake Elsinore Advanced Pumped Storage Project No 14227.

d. The meeting will be limited to tribal representatives of the Pechanga Tribe and the Commission's representatives. A summary of the meeting will be prepared and placed in the public record of these proceedings.

Dated: March 7, 2019.
Kimberly D. Bose,
Secretary.

[FR Doc. 2019-04683 Filed 3-13-19; 8:45 am]

BILLING CODE 6717-01-P